DEPARTMENT OF AGRICULTURE

Food Safety and Inspection Service

[Docket No. 01-045N]

Codex Alimentarius Commission: 3rd Session, Ad Hoc Intergovernmental Task Force on Foods Derived From Biotechnology

AGENCY: Office of the Under Secretary for Food Safety, USDA.

ACTION: Notice, correction.

SUMMARY: The Office of the Under Secretary for Food Safety, U.S. Department of Agriculture (USDA), and the Food and Drug Administration (FDA) published a document in the Federal Register of January 10, 2002, are sponsoring two public meetings on Wednesday, January 9, 2002, and on Tuesday, February 12, 2002, to present and receive comment on draft United States positions on all issues coming before the 2nd Session of the Ad Hoc Intergovernmental Task Force on Foods Derived From Biotechnology, which will be held in Yokohama, Japan, March 4-8, 2002. The Under Secretary for Food Safety and FDA recognize the importance of providing interested parties the opportunity to obtain background information on the 3rd Session, Ad Hoc Intergovernmental Task Force on Foods Derived From Biotechnology.

FOR FURTHER INFORMATION CONTACT: Patrick J. Clerkin, Associate U.S. Manager for Codex, U.S. Codex Office, Food Safety and Inspection Service, Room 4861, South Building, 1400 Independence Avenue SW., Washington, DC 20250-3700, Telephone (202) 205-7760, Fax (202) 720-3157. Persons requiring a sign language interpreter or other special accommodations should notify Mr. Clerkin at the above number.

Correction

In the Federal Register of January 10, 2002, in FR Docket No. 01-045N, on page 1327, in the first column, under DATES:, correct the “day” to read Tuesday, February 12, 2002.

Done at Washington, DC on: January 31, 2002.
F. Edward Scharbrough,
U.S. Manager for Codex Alimentarius.

[FR Doc. 02-2742 Filed 2-4-02; 8:45 am]

BILLING CODE 3410-DM-P